DEPARTMENT OF HOUSING AND URBAN DEVELOPMENT

[Docket No. FR-5415-N-09]

Notice of Availability: Notice of Funding Availability (NOFA) for HUD's Fiscal Year (FY) 2010 Housing Counseling Training Program

AGENCY: Office of the Chief of the Human Capital Officer, HUD.

ACTION: Notice.

SUMMARY: HUD announces the availability on its website of the applicant information, submission deadlines, funding criteria, and other requirements for HUD's Housing Counseling Training Program NOFA for FY2010. This year's Housing Counseling Training NOFA makes approximately $5.125 million made available under the Department of Housing and Urban Development Appropriations Act, 2009 (Pub. L. 111-8, approved March 11, 2009). The purpose of this NOFA is to improve and standardize the quality of counseling provided by housing counselors employed by “participating agencies.” Participating agencies include all housing counseling and intermediary organizations participating in HUD's Housing Counseling Program, including HUD-approved agencies, affiliates and branches of HUD-approved intermediaries, HUD-approved multistate organizations, and state housing finance agencies.

The notice providing information regarding the application process, funding criteria and eligibility requirements can be found using the Department of Housing and Urban Development agency link on the Grants.gov/Find Web site at http://www.grants.gov/search/agency.do. A link to Grants.gov is also available on the HUD Web site at http://www.hud.gov/offices/adm/grants/fundsavail.cfm. The Catalogue of Federal Domestic Assistance (CFDA) number for the Housing Counseling Training NOFA is 14.316. Applications must be submitted electronically through Grants.gov.

FOR FURTHER INFORMATION CONTACT: For information concerning the Housing Counseling Training NOFA, you may contact Gerard P. Donahoe, Jr., HUD Headquarters, Single Family Housing, Program Support Division, telephone 202-402-3951 (this is not a toll-free number). Persons with speech or hearing impairments may access this telephone number via TTY by calling the toll-free Federal Relay Service during working hours at 800-877-8339.

Dated: September 29, 2010.
Barbara S. Dorf,
Director, Office of Departmental Grants Management and Oversight, Office of the Chief of the Human Capital Officer.

[FR Doc. 2010-24828 Filed 10-1-10; 8:45 am]

BILLING CODE 4210-67-P